SURFACE TRANSPORTATION BOARD

[Docket No. AB 1318X)]

West Belt Railway LLC—Discontinuance of Service Exemption—in St. Louis County, Mo.

West Belt Railway LLC (WBRY) has filed a verified notice of exemption under 49 C.FR part 1152 subpart F—Exempt Abandonments and Discontinuances of Service to discontinue service over an approximately 0.1-mile segment of rail line between milepost 0.7 (near Bodine Industrial Drive crossing) and milepost 0.8 (the end of the line) in St. Louis County, Mo. (the Line).¹ The Line traverses U.S. Postal Service Zip Code 63114.

¹ Terminal Railroad Association of St. Louis, which, according to WBRY, leases the Line to WBRY, has filed a verified notice of exemption to abandon the Line. See Terminal R.R. Ass'n of St. Louis—Aban. Exemption—in St. Louis Cnty., Mo., AB 122 (Sub-No. 2X) (STB served Aug. 16, 2021) (86 FR 45,796).

WBRY has certified that: (1) It has moved no local traffic over the Line in at least two years; (2) any overhead traffic can be rerouted; (3) no formal complaint filed by a user of rail service on the Line (or a state or local government entity acting on behalf of such user) regarding cessation of service over the Line either is pending with the Surface Transportation Board or any U.S. District Court or has been decided in favor of a complainant within the two-year period; and (4) the requirements at 49 CFR 1105.12 (newspaper publication) and 49 CFR 1152.50(d)(1) (notice to governmental agencies) have been met.

As a condition to this exemption, any employee adversely affected by the discontinuance of service shall be protected under Oregon Short Line Railroad—Abandonment Portion Goshen Branch Between Firth & Ammon, in Bingham & Bonneville Counties, Idaho, 360 I.C.C. 91 (1979). To address whether this condition adequately protects affected employees, a petition for partial revocation under 49 U.S.C. 10502(d) must be filed.

Provided no formal expression of intent to file an offer of financial assistance (OFA) ² to subsidize continued rail service has been received, this exemption will be effective on September 23, 2021, unless stayed pending reconsideration. Petitions to stay that do not involve environmental issues and formal expressions of intent to file an OFA to subsidize continued rail service under 49 CFR 1152.27(c)(2) ³ must be filed by September 3, 2021.⁴ Petitions for reconsideration must be filed by September 13, 2021.

² Persons interested in submitting an OFA to subsidize continued rail service must first file a formal expression of intent to file an offer, indicating the intent to file an OFA for subsidy and demonstrating that they are preliminarily financially responsible. See 49 CFR 1152.27(c)(2)(i).

³ The filing fee for OFAs can be found at 49 CFR 1002.2(f)(25).

⁴ Because this is a discontinuance proceeding and not an abandonment, interim trail use/rail banking and public use conditions are not appropriate. Because there will be an environmental review during abandonment, this discontinuance does not require environmental review.

All pleadings, referring to Docket No. AB 1318X, should be filed with the Surface Transportation Board via e-filing on the Board's website. A copy of any petition filed with Board should be sent to WBRY's representative, Audrey Lane Brodrick, Fletcher & Sippel LLC, 29 North Wacker Drive, Suite 800, Chicago, IL 60606.

If the verified notice contains false or misleading information, the exemption is void ab initio.

Board decisions and notices are available at www.stb.gov.

Decided: August 17, 2021.
By the Board, Scott M. Zimmerman, Acting Director, Office of Proceedings.
Kenyatta Clay,
Clearance Clerk.

[FR Doc. 2021-18154 Filed 8-23-21; 8:45 am]

BILLING CODE 4915-01-P